DEPARTMENT OF COMMERCE

National Oceanic and Atmospheric Administration

[I.D. 122704B]

Marine Mammals; File Nos. 881-1668, 1010-1641, 782-1532, 434-1669, and 800-1664

AGENCY: National Marine Fisheries Service (NMFS), National Oceanic and Atmospheric Administration (NOAA), Commerce.

ACTION: Issuance of permit amendments.

SUMMARY: Notice is hereby given that the following organizations and individual have been issued amendments to permits for scientific research on Steller sea lions (Eumetopias jubatus): The Alaska SeaLife Center, Seward, Alaska (Permit No. 881-1668); The Aleutians East Borough, Kodiak, Alaska (Permit No. 1010-1641); The National Marine Mammal Laboratory, NMFS, Seattle, Washington (Permit No. 782-1532); The Oregon Department of Fish and Wildlife, Corvallis, Oregon (Permit No. 434-1669); and Dr. Randall Davis, Texas A&M University, Department of Marine Biology, Galveston, Texas (Permit No. 800-1664).

ADDRESSES: The amendments and related documents are available for review upon written request or by appointment in the following office(s):

All permits - Permits, Conservation and Education Division, Office of Protected Resources, NMFS, 1315 East-West Highway, Room 13705, Silver Spring, MD 20910; phone (301)713-2289; fax (301)713-0376;

Permit No. 434-1669 - Northwest Region, NMFS, 7600 Sand Point Way NE, BIN C15700, Bldg. 1, Seattle, WA 98115-0700; phone (206)526-6150; fax (206)526-6426; and

All permits - Alaska Region, NMFS, P.O. Box 21668, Juneau, AK 99802-1668; phone (907)586-7221; fax (907)586-7249.

FOR FURTHER INFORMATION CONTACT: Dr. Tammy Adams or Amy Sloan, (301)713-2289.

SUPPLEMENTARY INFORMATION: On June 27, 2002 , notice was published in the Federal Register (67 FR 43283) that requests for permits and permit amendments to “take” Steller sea lions by harassment during scientific research had been submitted by the above-named individuals/organizations. The permits and permit amendments were issued on November 12, 2002 (67 FR 697243). Amendments to these permits have been issued under the authority of the Marine Mammal Protection Act of 1972, as amended (16 U.S.C. 1361 et seq.), the Regulations Governing the Taking and Importing of Marine Mammals (50 CFR part 216), the Endangered Species Act of 1973, as amended (ESA; 16 U.S.C. 1531 et seq.), and the regulations governing the taking, importing, and exporting of endangered and threatened species (50 CFR 222-226).

These minor amendments extend the expiration date for all five permits from December 31, 2004 to December 31, 2005. These five permits authorize “takes” of Steller sea lions by harassment during a variety of research activities. These amendments do not authorize any additional “takes” of Steller sea lions. Rather, they allow the permit holders an additional 12 months to use any research-related harassment “takes” remaining from the 2004 permit year.

Issuance of these permit amendments, as required by the ESA, was based on a finding that such permit amendments: (1) were applied for in good faith; (2) will not operate to the disadvantage of such endangered species; and (3) are consistent with the purposes and policies set forth in section 2 of the ESA.

Dated: December 27, 2004.
Tammy C. Adams,
Acting Chief, Permits, Conservation and Education Division, Office of Protected Resources, National Marine Fisheries Service.

[FR Doc. 04-28740 Filed 12-30-04; 8:45 am]

BILLING CODE 3510-22-S